NUCLEAR REGULATORY COMMISSION

Request for a License To Export High-Enriched Uranium

Pursuant to Title 10 of the Code of Federal Regulations (10 CFR) 110.70 (b) “Public Notice of Receipt of an Application,” please take notice that the U.S. Nuclear Regulatory Commission (NRC) has received the following request for an export license. Copies of the request are available electronically through the Agencywide Documents Access and Management System and can be accessed through the Public Electronic Reading Room link http://www.nrc.gov/reading-rm.html at the NRC Homepage.

A request for a hearing or petition for leave to intervene may be filed within thirty days after publication of this notice in the Federal Register (FR). Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139; August 28, 2007. Information about filing electronically is available on the NRC's public Web site at http://www.nrc.gov/site-help/e-submittals.html. To ensure timely electronic filing, at least 5 days prior to the filing deadline, the petitioner/requestor should contact the Office of the Secretary by email at HEARINGDOCKET@NRC.GOV, or by calling 301-415-1677, to request a digital ID certificate and allow for the creation of an electronic docket.

In addition to a request for hearing or petition for leave to intervene, written comments, in accordance with 10 CFR 110.81, should be submitted within thirty days after publication of this notice in the Federal Register to Office of the Secretary, U.S. Nuclear Regulatory Commission, Washington, DC 20555, Attention: Rulemaking and Adjudications.

The information concerning this application for an export license follows.

NRC Export License Application
[Description of Material]
Name of applicant Date of application Date received Application No. Docket No. | Material type | Total quantity | End use | Destination
U.S. Department of Energy, National Nuclear Security Administration July 14, 2016 July 21, 2016 XSNM3776 11006241 | High-Enriched Uranium (93.35 WGT %) in the form of broken metal | 6.7 kilograms (kg) uranium-235 contained in 7.2 kg uranium | For target fabrication at AREVA NP Romans in France, to be used for medical isotope production at the Institute for Radioelements in Belgium | Belgium.

Dated this 8th day of August 2016 at Rockville, Maryland.
For the Nuclear Regulatory Commission.
Mugeh Afshar-Tous,
Acting Director, Office of International Programs.

[FR Doc. 2016-19360 Filed 8-12-16; 8:45 am]

BILLING CODE 7590-01-P